DEPARTMENT OF COMMERCE

National Institute of Standards and Technology

Board of Overseers of the Malcolm Baldrige National Quality Award

AGENCY: National Institute of Standards and Technology, Department of Commerce.

ACTION: Notice of open meeting.

SUMMARY: The Board of Overseers of the Malcolm Baldrige National Quality Award (Board of Overseers) will meet in open session on Friday, June 9, 2023, from 10:30 a.m. to 2:30 p.m. Eastern time. The Board of Overseers, appointed by the Secretary of Commerce, reports the results of the Malcolm Baldrige National Quality Award (Award) activities to the Director of the National Institute of Standards and Technology (NIST) each year, along with its recommendations for the improvement of the Award process. The purpose of this meeting is to discuss and review information received from the National Institute of Standards and Technology. The agenda will include: Baldrige Program Update, Baldrige Foundation Update, Ethics Review, Alliance for Performance Excellence Update, Communities of Excellence Update, and New Business/Public Comment.

DATES: The meeting will be held on Friday, June 9, 2023 from 10:30 a.m. Eastern Time until 2:30 p.m. Eastern Time. The meeting will be open to the public.

ADDRESSES: The meeting will be virtual via webinar. Please note admittance instructions under the SUPPLEMENTARY INFORMATION section of this notice.

FOR FURTHER INFORMATION CONTACT: Robert Fangmeyer, Director, Baldrige Performance Excellence Program, phone: 301-975-2361, email robert.fangmeyer@nist.gov.

SUPPLEMENTARY INFORMATION:

Authority: 15 U.S.C. 3711a(d)(1), 15 U.S.C. 3711a(d)(2)(B) and the Federal Advisory Committee Act, as amended, 5 U.S.C. App.

Pursuant to the Federal Advisory Committee Act, as amended, 5 U.S.C. App., notice is hereby given that the Board of Overseers will meet in open session on Friday, June 9, 2023, from 10:30 a.m. to 2:30 p.m. Eastern Time. The Board of Overseers (Board), composed of approximately twelve members preeminent in the field of organizational performance excellence and appointed by the Secretary of Commerce, makes an annual report on the results of Award activities to the Director of the National Institute of Standards and Technology (NIST), along with its recommendations for improvement of the Award process.

The purpose of this meeting is to discuss and review information received from NIST. The agenda will include: Baldrige Program Update, Baldrige Foundation Update, Ethics Review, Alliance for Performance Excellence Update, Communities of Excellence Update, and New Business/Public Comment. The agenda may change to accommodate the Board of Overseers business. The final agenda will be posted on the NIST Baldrige Performance Excellence website at http://www.nist.gov/baldrige/community/overseers.cfm. The meeting is open to the public.

Individuals and representatives of organizations who would like to offer comments and suggestions related to the Board's affairs and/or the Panel of Judges' general process are invited to request a place on the agenda. On June 9, 2023, approximately one-half hour will be reserved in the afternoon for public comments, and speaking times will be assigned on a first-come, first-served basis. The amount of time per speaker will be determined by the number of requests received but is likely to be about 3 minutes each. The exact time for public comments will be included in the final agenda that will be posted on the Baldrige Performance Excellence Program website at http://www.nist.gov/baldrige/community/overseers.cfm. Questions from the public will not be considered during this period. Requests must be submitted by email to Robyn Verner at robyn.verner@nist.gov and must be received by 4:00 p.m. Eastern Time, June 6, 2023 to be considered. Speakers who wish to expand upon their oral statements, those who had wished to speak, but could not be accommodated on the agenda, and those who were unable to attend in person are invited to submit written statements by email to robyn.verner@nist.gov.

Admittance instructions: All participants will be attending virtually via webinar and need to pre-register to be admitted. Please contact Ms. Verner by email at robyn.verner@nist.gov, provide her with your name, email, and phone number and she will provide you with instructions for admittance.

All requests must be received by 4:00 p.m. Eastern Time, June 6, 2023.

Alicia Chambers,
NIST Executive Secretariat.

[FR Doc. 2023-06268 Filed 3-24-23; 8:45 am]

BILLING CODE 3510-13-P